DEPARTMENT OF THE TREASURY

Office of Foreign Assets Control

Sanctions Actions Pursuant to Executive Order 13224

AGENCY: Office of Foreign Assets Control, Treasury.

ACTION: Notice.

SUMMARY: The Treasury Department's Office of Foreign Assets Control (OFAC) is publishing the names of 3 individuals whose property and interests in property are blocked pursuant to Executive Order 13224 of September 23, 2001, “Blocking Property and Prohibiting Transactions With Persons Who Commit, Threaten To Commit, or Support Terrorism.”

DATES: OFAC's actions described in this notice were effective on February 11, 2016.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic and Facsimile Availability

The SDN List and additional information concerning OFAC sanctions programs are available from OFAC's Web site (www.treas.gov/ofac). Certain general information pertaining to OFAC's sanctions programs is also available via facsimile through a 24-hour fax-on-demand service, tel.: 202/622-0077.

Notice of OFAC Actions

On February 11, 2016, OFAC blocked the property and interests in property of the following 3 individuals pursuant to E.O. 13224, “Blocking Property and Prohibiting Transactions With Persons Who Commit, Threaten To Commit, or Support Terrorism”:

Individuals

1. JUAYTHINI, Husayn (a.k.a. ALJEITHNI, Hussein Mohammed Hussein; a.k.a. AL-JU'AITNI, Abu Mu'ath; a.k.a. AL-JU'AYTHINI, Husayn Muhamad Husayn; a.k.a. AL-JU'AYTHINI, Husayn Muhammad; a.k.a. AL-JU'AYTHINI, Husayn Muhammad Husayn; a.k.a. JU'AYTHINI, Husayn Muhammad Husayn); DOB 03 May 1977; POB Al-Nusayirat refugee camp, Gaza; Passport 0363464 (individual) [SDGT] (Linked To: ISLAMIC STATE OF IRAQ AND THE LEVANT).

2. AL-BINALI, Turki Mubarak Abdullah Ahmad (a.k.a. AL BINALI, Turki Mubarak Abdullah; a.k.a. AL-BENALI, Turki; a.k.a. AL-BIN'ALI, Turki; a.k.a. AL-BIN'ALI, Turki Mubarak; a.k.a. “ABU DERGHAM”; a.k.a. “AL-ATHARI, Abu Human”; a.k.a. “AL-ATHARI, Abu Human Bakr ibn 'Abd al-'Aziz”; a.k.a. “AL-ATHARI, Abu-Bakr”; a.k.a. “AL-BAHRAYNI, Abu Hudhayfa”; a.k.a. “AL-MUDARI, Abu Khuzayma”; a.k.a. “AL-SALAFI, Abu Hazm”; a.k.a. “AL-SULAMI, Abu Sufyan”); DOB 03 Sep 1984; POB Al Muharraq, Bahrain; nationality Bahrain; Passport 2231616 (Bahrain) issued 02 Jan 2013 expires 02 Jan 2023; alt. Passport 1272611 (Bahrain) issued 01 Apr 2003; Identification Number 840901356 (individual) [SDGT] (Linked To: ISLAMIC STATE OF IRAQ AND THE LEVANT).

3. AL-ZAHRANI, Faysal Ahmad 'Ali (a.k.a. AL ZAHRANI, Faysal Ahmad Bin Ali; a.k.a. ALZAHRANI, Faisal Ahmed Ali; a.k.a. “AL-JAZRAWI, Abu-Sara”; a.k.a. “AL-SAUDI, Abu Sarah”; a.k.a. “AL-ZAHRANI, Abu-Sarah”; a.k.a. “ZAHRANI, Abu Sara”); DOB 19 Jan 1986; alt. DOB 18 Jan 1986; nationality Saudi Arabia; Passport K142736 (Saudi Arabia) issued 14 Jul 2011; alt. Passport G579315 (Saudi Arabia) (individual) [SDGT] (Linked To: ISLAMIC STATE OF IRAQ AND THE LEVANT).

Dated: February 11, 2016.
John E. Smith,
Acting Director, Office of Foreign Assets Control.

[FR Doc. 2016-03162 Filed 2-16-16; 8:45 am]

BILLING CODE 4810-AL-P